DEPARTMENT OF COMMERCE

National Oceanic and Atmospheric Administration

[I.D. 121801D]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Deep Water Crab Advisory Panel (AP).

DATES: This meeting will begin at 9 a.m. on Thursday, January 9, 2002 and will conclude by 5 p.m.

ADDRESSES: The meeting will be held at NMFS Southeast Fisheries Science Center, 75 Virginia Beach Drive, Miami, FL.

Council address: Gulf of Mexico Fishery Management Council, 3018 U.S. Highway 301 North, Suite 1000, Tampa, FL 33619.

FOR FURTHER INFORMATION CONTACT: Peter Hood, Fishery Biologist, Gulf of Mexico Fishery Management Council; telephone: 813-228-2815.

SUPPLEMENTARY INFORMATION: The Council will convene its Deep-water Crab AP to review a preliminary issues and options paper for the development of a Deep-water Crab Fishery Management Plan (FMP).

The species that would be managed under the Deep-water Crab FMP will be the golden crab (Chaceon fenneri) and red crab (Chaceon quinquedens). The preliminary issues and options paper for the development of a Deep-water Crab FMP examines fisheries issues including management needs, gear requirements and restrictions, crab size and sex limitations for harvest, and requirements for fishery participants. Based on its review, the Deep-water Crab AP may recommend to the Council management criteria that will benefit the fishery while preserving the resource under the provisions of the Magnuson-Stevens Fishery Conservation and Management Act. The Council will consider these recommendations at its January meeting to be held in Brownsville, TX, from January 21-24, 2002.

Although other non-emergency issues not on the agendas may come before the AP for discussion, in accordance with the Magnuson-Stevens Fishery Conservation and Management Act, those issues may not be the subject of formal action during these meetings. Actions of the AP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by January 2, 2002.

Dated: December 19, 2001.
Richard W. Surdi.
Acting Director, Office of Sustainable Fisheries, National Marine Fisheries Service.

[FR Doc. 01-31661 Filed 12-21-01; 8:45 am]

BILLING CODE 3510-22-S